ENVIRONMENTAL PROTECTION AGENCY

[ER-FRL-8591-2]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7167. An explanation of the ratings assigned to draft environmental impact statements (EISs) was published in FR dated April 6, 2008 (73 FR 19833).

Draft EISs

EIS No. 20080383, ERP No. D-AFS-B65014-VT, Deerfield Wind Project, Application for a Land Use Authorization to Construct and Operate a Wind Energy Facility, Special Use Authorization Permit, Towns of Searsburg and Readsboro, Manchester Ranger District, Green Mountain National Forest, Bennington County, VT.

Summary: EPA expressed environmental concerns with potential adverse impacts to the brown bear habitat, the range of alternatives and comprehensive monitoring and mitigation for impacts to brown bear and their habitat.Rating EC2.

EIS No. 20080439, ERP No. D-BLM-L65560-OR, John Day Basin Resource Management Plan, To Provide Direction for Managing Public Lands in Central and Eastern Oregon, Prineville District,Grant, Wheeler, Gilliam, Wasco, Sherman, Umatilla, Jefferson and Morrow Counties, OR.

Summary: EPA expressed environmental concerns with impacts to water quality and quantity, and aquatic and riparian resources. We recommend incorporating the Alternative 4 grazing strategy, and continuation of watershed analysis per Alternative 1. The final EIS should further discuss management of Reserve Forage Allotments, and Aquatic Conservation Strategy related to proper functioning condition, management of livestock, and water withdrawal.Rating EC2.

EIS No. 20080485, ERP No. D-SFW-K99040-NV, Southeastern Lincoln County Habitat Conservation Plan, Application Package for Three Incidental Take Permits, Authorize the Take of Desert Tortoise (Gopherus agassizii) and Southwestern Willow Flycatcher (Empidonax traillii extimus), Implementation, Lincoln County, NV.

Summary: EPA expressed concerns about specific conservation measures. EPA requested additional information regarding impacts from desert tortoise relocation, and establishment of a southwestern willow flycatcher habitat mitigation bank.Rating EC2.

Final EISs

EIS No. 20080517, ERP No. F-FHW-C50015-NY, Kosciuszko Bridge Project, Propose Rehabilitation or Replacement a 1.1 mile Segment Brooklyn-Queens Expressway (-278) from Morgan Avenue in Brooklyn and the Long Island Expressway (1495) in Queens, Kings and Queens Counties, NY.

Summary: EPA's previous concerns about air quality have been resolved; therefore EPA has no objections to the proposed action.

EIS No. 20080525, ERP No. F-FHW-C40173-NJ, I-295/I-76/Route 42 Direct Connection Project, To Improve Traffic Safety and Reduce Traffic Congestion, Funding and U.S. Army COE Section 10 and 404 Permits, Borough of Bellmawr, Borough of Mount Ephraim and Gloucester City, Camden County, NJ.

Summary: EPA's previous concerns about wetlands, air quality and stormwater management have been resolved; therefore EPA has no objection to the proposed action.

EIS No. 20080541, ERP No. F-UPS-K80007-CA, Aliso Viejo Incoming Mail Facility, Proposed Construction and Operation of a Mail Processing Facility on a 25-Acre Parcel, Aliso Viejo, Orange County, CA.

Summary: While EPA does not object to this project, EPA requested that the ROD include commitments to the mitigation measures discussed in the EIS.

EIS No. 20090006, ERP No. F-MMS-B09802-00, Cape Wind Energy Project, Construction, Operation and Maintenance, and Decommissioning of an Electric Generation Facility, Barnstable,Nantucket and Duke Counties, MA and Washington County, RI.

Summary: EPA offered comments concerning the monitoring and mitigation component of the FEIS as well as air quality analysis/permitting and marine impacts and requested that MMS address all substantive comments received on the FEIS in the ROD and to coordinate closely with relevant state and federal agencies during its development.

EIS No. 20090014, ERP No. F-NOA-L39065-OR, Bull Run Water Supply Habitat Conservation Plan, Application for and Incidental Take Permit to cover the Continued Operation and Maintenance, Sandy River Basin, City of Portland, OR.

Summary: No formal comment letter was sent to the preparing agency.

EIS No. 20090015, ERP No. F-FHW-E40818-TN, TN-397 (Mack Hatcher Parkway Extension) Construction from US-31 (TN-6, Columbia Avenue) South of Franklin to US-341 (TN-106, Hillsboro Road) North of Franklin, Additional Information on the Build Alternative (Alternative G), Williamson County and City of Franklin, TN.

Summary: EPA's previous concerns have been resolved; therefore EPA has no objection with the proposed action.

Dated: March 3, 2009.
Robert W. Hargrove,
Director, NEPA Compliance Division, Office of Federal Activities.

[FR Doc. E9-4796 Filed 3-5-09; 8:45 am]

BILLING CODE 6560-50-P